DEPARTMENT OF TRANSPORTATION

Federal Aviation Administration

Approval of Noise Compatibility Program; Seattle-Tacoma International Airport, Seattle, WA

AGENCY: Federal Aviation Administration, DOT.

ACTION: Notice.

SUMMARY: The Federal Aviation Administration (FAA) announces its findings on the noise compatibility program, submitted by the manager of the airfield line of business for Seattle-Tacoma International Airport, under the provisions of 49 U.S.C., Sec. 47504(b), and 14 CFR part 150. These findings are made in recognition of the description of federal and non-federal responsibilities in Senate Report No. 96-52 (1980).

On December 3, 2001, the FAA determined that the noise exposure maps submitted, under part 150, by the manager of the airfield line of business for Seattle-Tacoma International Airport, were in compliance with applicable requirements. On June 3, 2002, the Associate Administrator for Airports approved the Seattle-Tacoma International Airport noise compatibility program. Program measures 1, 9, 12, 13, 14, 15, 16, 17, 18, and 19 received outright approval. Measures 5 and 6 were approved as voluntary. Measures 3, 4 and 10 were disapproved, pending submission of additional information. Measures 7 and 11 were disapproved outright, 2 was disapproved, in part, pending submission of additional information. Measure 8 required no FAA action.

EFFECTIVE DATE: The effective date of the FAA's approval of the Seattle-Tacoma International Airport noise compatibility program is June 3, 2002.

FOR FURTHER INFORMATION CONTACT: Dennis G. Ossenkop; Federal Aviation Administration; Northwest Mountain Region; Airports Division, ANM-611; 1601 Lind Avenue, SW., Renton, Washington, 98055-4056. Documents reflecting this FAA action may be reviewed at this same location.

SUPPLEMENTARY INFORMATION: This notice announces that the FAA has given its overall approval to the noise compatibility program for Seattle-Tacoma International Airport, effective June 3, 2002. Under 49 U.S.C., Sec. 27504(a), an airport operator, who has previously submitted a noise exposure map, may submit to the FAA a noise compatibile program that sets forth the measures taken or proposed by the airport operator for the reduction of existing noncompatibility land uses, and prevention of additional noncompatible land uses within the area covered by the noise exposure maps. The 49 U.S.C., Sec. 27503(a)(1), requires such a program to be developed in consultation with interested and affected parties, including the state, local communities, government agencies, airport users, and FAA personnel.

Each airport noise compatibility program developed in accordance with Federal Aviation Regulations (FAR), part 150, is a local, not federal, program. The FAA does not substitute its judgment for that of the airport proprietor, with respect to which measures should be recommended for action. The FAA's approval or disapproval of the FAR, part 150, program recommendations is measured according to the standards expressed in part 150 and the Aviation Safety and Noise Abatement Act of 1979, and it is limited to the following determinations:

a. The noise compatibility program was developed in accordance with the provisions and procedures of FAR, part 150.

b. Program measures are reasonably consistent with achieving the goals of reducing existing noncompatible land uses around the airport, and preventing the introduction of additional noncompatible land uses.

c. Program measures would not create an undue burden on interstate or foreign commerce, unjustly discriminate against types or classes of aeronautical uses, violate the terms of airport grant agreements, or intrude into areas preempted by the federal government.

d. Program measures relating to the use of flight procedures can be implemented within the period covered by the program without derogating safety, adversely affecting the efficient use and management of the navigable airspace and airport traffic control systems, or adversely affecting other powers and responsibilities of the Administrator, as prescribed by law.

Specific limitations with respect to the FAA's approval of an airport noise compatibility program are delineated in FAR, part 150, section 150.5. Approval is not a determination concerning the acceptability of land uses under federal, state, or local law. Approval does not by itself constitute an FAA implementing action. A request for federal action or approval to implement specific noise compatibility measures may be required, and an FAA decision on the request may require an environmental assessment of the proposed action. Approval does not constitute a commitment by the FAA to financially assist in the implementation of the program, or a determination that all measures covered by the program are eligible for grant-in-aid funding from the FAA. Where federal funding is sought, requests for project grants must be submitted to the Seattle Airports District Office.

The manager of the airfield line of business for Seattle-Tacoma International Airport submitted to the FAA the noise exposure maps, descriptions, and other documentation produced during the noise compatibility planning study contacted at Seattle-Tacoma International Airport. The Seattle-Tacoma International Airport noise exposure maps were determined by the FAA, on December 3, 2001, to be in compliance with applicable requirements. Notice of this determination was published in the Federal Register on December 10, 2001.

The proposed Seattle-Tacoma International Airport noise compatibility program is comprised of actions designed for phased implementation by airport management and adjacent jurisdictions, from the date of study completion to the year 2004. It was requested that the FAA evaluate and approve this material as a noise compatibility program, as described in 49 U.S.C., Sec. 47504(a). The FAA began its review of the program on December 3, 2001, and was required by a provision of 49 U.S.C., Sec. 47504(b), to approve or disapprove the program within 180 days (other than the use of new flight procedures for noise control). Failure to approve or disapprove such program within the 180-day period shall be deemed to be an approval of such program. The FAA completed its review and determined that the procedural and substantive requirements of 49 U.S.C., Sec. 47504(b), and FAR 150 have been satisfied. The overall program, therefore, was approved by the Associate Administrator for Airports, effective June 3, 2002.

These determinations are set forth in detail in a Record of Approval, endorsed by the Associate Administrator for Airports on June 3, 2002. The Record of Approval, as well as other evaluation materials and the documents comprising the submittal are available for review at the FAA office listed above and at the administrative offices of the Seattle-Tacoma International Airport.

Issued in Renton, Washington, on June 12, 2002.
Lowell H. Johnson,
Manager, Airports Division, Northwest Mountain Region.

[FR Doc. 02-16895 Filed 7-3-02; 8:45 am]

BILLING CODE 4910-13-M